DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Friday, September 13, 2013, 9:00 a.m.-2:00 p.m.

ADDRESSES: Department of Energy, 1000 Independence Avenue SW., Washington, DC 20585.

FOR FURTHER INFORMATION CONTACT: Amy Bodette, Designated Federal Officer, U.S. Department of Energy, 1000 Independence Avenue SW., Washington, DC 20585; telephone (202) 586-0383 or facsimile (202) 586-1441; seab@hq.doe.gov.

SUPPLEMENTARY INFORMATION: Background: The Board was established to provide advice and recommendations to the Secretary on the Department's basic and applied research, economic and national security policy, educational issues, operational issues and other activities as directed by the Secretary.

Purpose of the Meeting: The meeting will provide an overview to the Board.

Tentative Agenda: The meeting will start at 9:00 a.m. on September 16 and will serve as an introductory meeting for the Board. The tentative meeting agenda includes a report on plans for SEAB Task forces, briefings, and comments from the public on suggestions for SEAB work. The meeting will conclude at 2:00 p.m.

Public Participation: The meeting is open to the public. Individuals who would like to attend must RSVP to Amy Bodette by email at seab@hq.doe.gov, no later than 5:00 p.m. on Tuesday, September 10, 2013. Please provide your name, organization, citizenship and contact information. Anyone attending the meeting will be required to present government-issued identification. Individuals and representatives of organizations who would like to offer comments and suggestions may do so at the end of the meeting on Friday, September 13, 2013. Approximately 30 minutes will be reserved for public comments. Time allotted per speaker will depend on the number who wish to speak but will not exceed five minutes. The Designated Federal Officer is empowered to conduct the meeting in a fashion that will facilitate the orderly conduct of business. Those wishing to speak should register to do so beginning at 8:30 a.m. on September 13, 2013.

Those not able to attend the meeting or have insufficient time to address the committee are invited to send a written statement to Amy Bodette, U.S. Department of Energy, 1000 Independence Avenue SW., Washington, DC 20585, or by email to: seab@hq.doe.gov.

Minutes: The minutes of the meeting will be available by contacting Ms. Bodette. She may be reached at the postal address or email address above or by visiting SEAB's Web site at www.energy.gov/seab.

Issued in Washington, DC on August 21, 2013.
LaTanya R. Butler,
Deputy Committee Management Officer.

[FR Doc. 2013-20861 Filed 8-26-13; 8:45 am]

BILLING CODE 6450-01-P